ENVIRONMENTAL PROTECTION AGENCY

(ER-FRL-6622-3)

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167.

An explanation of the ratings assigned to draft environmental impact statements (EISs) was published in FR dated May 18, 2001 (97 FR 27647).

Draft EISs

ERP No. D-AFS-J65347-MT Rating EC2, Gold/Boulder/Sullivan (GBS), Implementation of Timber Harvest and Associated Activities and Rexford Ranger District, Lincoln County, MT.

Summary: EPA expressed environmental concerns about proposed riparian timber harvests with modification of INFISH RHCA guidelines, harvests in the MA-2 semi-primitive non-motorized recreation area, open road density levels exceeding Forest standards, and regeneration harvests in older forest habitat. EPA recommended that additional analysis be conducted to modify the preferred alternative to optimize environmental and resources trade-offs, and to include monitoring to detect effects on water quality.

ERP No. D-AFS-J65348-CO Rating EC2, Bark Beetle Analysis, Proposal to Reduce Infestation of Trees by Tree-Killing Bark Beetles, Medicine Bow-Routt National Forests, Hahans Peak/Bears Ears Ranger District, Routt, Grand, Jackson and Moffat Counties, CO.

Summary: EPA generally supports beetle suppression activities; however, EPA expressed environmental concerns with potential adverse impacts from thinning and associated road construction. Additional analysis and a description of the proposed adaptive management plan should be considered and included in the FEIS.

ERP No. D-AFS-K65234-CA Rating EC2, Mineral Forest Recovery Project, Proposes to Construct Defensible Fuel Profile Zones (DFPZs), Lassen National Forest, Almanor Ranger District, Tehama County, CA.

Summary: EPA raised concerns related to purpose and need, alternative development, road construction and decommissioning, and analysis of cumulative impacts associated with maintaining DFPZs.

ERP No. D-AFS-L65386-ID Rating EC2, Little Blacktail Ecosystem Restoration Project, To Improve the Health and Producity of Terrestrial and Aquatic Habitats, Idaho Panhandle National Forests, Sandpoint Ranger District, Bonner County, ID.

Summary: EPA expressed concerns that no rationale was provided about choice of a preferred alternative over a more environmentally beneficial alternative. EPA also believes further rationale is needed on why two alternatives were considered but eliminated. Finally, the EIS needs to discuss how these project activities are consistent with the TMDL for the Cocolalla Creek.

ERP No. D-COE-J64008-SD Rating EC2, Title VI Land Transfer South Dakota, Transfer of 91,178 Acres of Land at Lake Oahe, Lake Sharp, Lake Francise Case, and Lewis & Clark Lake, from the US Army Corps of Engineers (USACE) to the South Dakota Department of Game, Fish and Parks (SDGFP), SD.

Summary: EPA expressed concerns about the absence of an alternatives analysis and mitigation. EPA recommends developing mitigation for threatened and endangered species, water quality, cultural resources and historic properties, and Native American access to lands transferred to the state.

ERP No. D-DOD-A11076-00 Rating EC2, Assembled Chemical Weapons Destruction Technologies at One or More Sites: Design, Construction and Operation of One or More Pilot Test Facilities, Anniston Army Depot, AL; Pine Bluff Arsenal, AR; Blue Grass Army Depot, KY and Pueblo Chemical Depot, CO.

Summary: EPA expressed concern regarding transportation of wastes, impacts on agriculture and accident planning. EPA requested additional information on these issues.

ERP No. D-FHW-F40396-IL Rating EC2, U.S. 67 (FAP-310) Expressway from Jacksonville to Macomb Transportation Improvements, NPDES and COE Section 10 and 404 Permits, Morgan, Cass, Schuyler and McDonough Counties, IL.

Summary: EPA expressed concern regarding purpose and need, alignment alternatives, surface water quality impacts, and groundwater quality impacts.

ERP No. D-FHW-K40245-CA Rating EC2, CA-78/111 Brawley Bypass, Construction of an Expressway from CA-86 to CA-11, City of Brawley, Funding, Imperial County, CA.

Summary: EPA expressed concerns regarding the potential loss of 380 to 450 acres of prime and statewide important farmland from the proposed action, and over 2,500 acres of farmland cumulatively, from the set of highway improvements from the Calexico Port of Entry at the Mexican Border to Riverside County. Additionally, EPA found the air quality analyses to be inconclusive.

ERP No. D-FRC-B03012-00 Rating EC2, Phase III/Hubline Project, Construction and Operation a Natural Gas Pipeline, Maritimes and Northeast Pipeline (Docket No. CPO1-4-000), Algonquin Gas Transmission (Docket No. CP01-5-000) and Texas Eastern Transmission (Docket No. CP01-8-000), MA and CT.

Summary: EPA requested additional information concerning impacts to the marine environment, drinking water supplies and project mitigation.

ERP No. D-FTA-K51041-CA Rating EC2, BART-Oakland International Airport Connector, Extending south from the Existing Coliseum BART Station, about 3.2 miles, to the Airport Terminal Area, Alameda County, CA.

Summary: EPA expressed concerns regarding the absence of a formal jurisdictional wetland delineation and the absence of an environmental review of the candidate sites for the Quality Bus maintenance and storage facility. EPA requested additional analysis and documentation on both of these issues.

ERP No. D-GSA-D81032-MD Rating EC2, Suitland Federal Center, Construction and Operation of a 226-acre Federal Employment Center, Programmatic Development Plan and Phase I Implementation, Prince George's County, MD.

Summary: EPA expressed concern relating to air quality impacts associated with increased traffic and that the phases of development may not conform with the air quality attainment plan. EPA encouraged consultation with the Metropolitan Washington Air Quality Committee prior to the issuance of the FEIS and that GSA make a committed effort to mitigate ongoing traffic impacts by adopting alternatives that will alleviate traffic congestion during standard peak hours.

ERP No. D-SFW-L91014-WA Rating EC2, Icicle Creek Restoration Creek Project, To Protect and Aid in the Recovery of Threatened and Endangered Fish, Leavenworth National Fish Hatchery (LNFH), COE Section 404 and NPDES Permits, Leavenworth, WA.

Summary: EPA's expressed concerns that the DEIS did not evaluate all reasonable alternatives and did not adequately analyze the projects environmental impacts.

ERP No. DA-NPS-K61137-AZ Rating LO, Organ Pipe Cactus National Monument General Management Plan and Development Concept Plan, Updated Information concerning Re-Analysis of Cumulative Effects of the Sonoran Pronghorn, Portion of the Sonoran Desert, Pima County, AZ.

Summary: EPA commended the National Park Service for its thorough evaluation of cumulative effects associated with activities that could potentially impact Sonoran pronghorn, and encouraged the National Park Service to continue to work with federal, state, and local partners to address the continuing incremental reduction in the ability of Sonoran pronghorn to maintain a viable population in United States.

ERP No. DS-USA-K11099-CA Rating EC2, Oakland Army Base Disposal and Reuse Plan, Implementation, New Information concerning a Flexible Alternative, City of Oakland, Alameda County, CA.

Summary: EPA expressed environmental concerns due to pollution prevention issues and environmental justice related impacts/environmental justice related mitigation measures.

Final EISs

ERP No. F-AFS-J65286-MT, Hemlock Point Access Project, Construction of 860 feet of Low Standard Road Access for Plum Creek Lands, Approval, Swan Valley, Swan Lake Ranger District, Flathead National Forest, Lake and Missoula Counties, MT.

Summary: EPA continues to express environmental concerns with impacts from the connected actions of road construction and timber harvest resulting from granting the access easement. EPA concerns are based on potential adverse impacts from Plum Creek road and harvest plans to water quality and fisheries in Windfall Creek and the threatened bull trout and grizzly bear. EPA recommended the ROD address less damaging road construction and logging measures on Plum Creek lands from the proposed action.

ERP No. F-AFS-J65327-CO, Baylor Park Blowdown Project, Salvage and Treat Down and Damaged Timber, To Reduce Impact of Spruce Beetles, Implementation, White River National Forest, Sopris and Rifle Ranger Districts, Garfield, Mesa, and Pitkin Counties, CO.

Summary: No formal comment letter was sent to the preparing agency.

ERP No. F-AFS-J65345-MT, Pink Stone Fire Recovery and Associated Activities, Reduction of Existing and Expected Future Fuel Accumulations, Kootena National Forest, Rexford Ranger District, Lincoln County, MT.

Summary: EPA expressed environmental concerns about the effects of timber harvest on the fire impacted streams. Additional harvest and fuel reduction action in the preferred alternative will increase peak flow impacts. EPA suggested evaluating an alternative that provides a more optimal balance of the environmental and resource trade-offs.

ERP No. F-BOP-G81010-LA, Pollock Federal Correctional Institution, Construction and Operation, near Town of Pollock, Grant Parish, LA.

Summary: EPA has no objections to the selection of the preferred alternative as described in the Final EIS.

ERP No. F-BOP-K80043-AZ, Southern Arizona Federal Correctional Facility, Construction and Operation, Pima and Yuma Counties, AZ.

Summary: No formal comment letter was sent to the preparing agency.

ERP No. F-COE-K90029-CA, Delta Wetlands Project, Construction and Operation Water Storage Project on Four Islands in the Sacramento-San Joaquin Delta, Approval of Permits, San Joaquin and Contra Costa Counties, CA.

Summary: No formal comment letter was sent to the preparing agency.

ERP No. F-FHW-G40147-NM, Paseo del Volcon Corridor, Acquisition of Right-of-Way and Construction of Roadway, from the Intersection of I-40 to Intersection of NM-44 near the Town of Bernalillo, Bernalillo and Sandoval Counties, NM.

Summary: EPA has no objection to the selection of the preferred alternative as described in the FEIS. Comments offered on the DEIS have been fully responded to. We have no additional comments to offer.

ERP No. F-GSA-D80030-DC, Department of Transportation Headquarters, Proposal to Lease 1.3 to 1.35 Million Rentable Square Feet of Consolidated and Upgraded Space, Five Possible Sites, Located in the Central Employment Area, Washington, DC.

Summary: The Final EIS adequately addresses the comments raised in the Draft EIS. EPA requested that GSA, prior to the opening of the new DOT Headquarters, coordinate with the Washington Metropolitan Area Transportation Authority (WMATA) on Green Line capacity assurance for the additional DOT passengers.

ERP No. F-IBR-K36132-CA, Colusa Basin Drainage District, Developing an Integrated Resource Management Program for the Control of Flooding, Glenn, Colusa and Yolo Counties, CA.

Summary: EPA urged a focus on effective management and smaller structural approaches such as Best Management Practices, flood easements, setback levees and modified grazing practices. The District and Reclamation have stated that the current evaluation is programmatic and that identified information gaps will be addressed at the project level. We requested a specific commitment in the Record of Decision to full project level evaluation and analysis of these information gaps.

ERP No. F-SFW-K64020-CA, Metro Air Park Habitat Conservation Plan, Issuance of an Incidental Take Permit, To Protect, Conserve and Enhance Fish, Wildlife and Plants and their Habitat, Natomas Basin, Sacramento County, CA.

Summary: EPA remains concerned with cumulative impacts and general conformity with regional air quality plans. We recommended the ROD include a more complete cumulative impact analysis and a general conformity analysis, if applicable.

ERP No. F-USA-K11092-AZ, Yuma Proving Ground Multipurpose Installation, Diversification of Mission and Changes to Land Use, NPDES General Permit and COE Section 404 Permit, Yuma and La Pas Counties, AZ.

Summary: No formal comment letter was sent to the preparing agency.

Dated: September 24, 2001.
Joseph C. Montgomery,
Director, NEPA Compliance Division, Office of Federal Activities.

[FR Doc. 01-24384 Filed 9-27-01; 8:45 am]

BILLING CODE 6560-50-P